DEPARTMENT OF TRANSPORTATION

Federal Aviation Administration

14 CFR Part 39

[Docket No. FAA-2005-24163; Directorate Identifier 2005-CE-30-AD; Amendment 39-14144; AD 2005-12-51]

RIN 2120-AA64

Airworthiness Directives; Rockwell International (Aircraft Specification No. A-2-575 previously held by North American and recently purchased by Boeing) Models AT-6 (SNJ-2), AT-6A (SNJ-3), AT-6B, AT-6C (SNJ-4), AT-6D (SNJ-5), AT-6F (SNJ-6), BC-1A, SNJ-7, and T-6G Airplanes; and Autair Ltd. (Aircraft Specification No. AR-11 previously held by Noorduyn Aviation Ltd.) Model Harvard (Army AT-16) Airplanes

AGENCY: Federal Aviation Administration (FAA), DOT.

ACTION: Final rule; request for comments.

SUMMARY: The FAA is adopting a new airworthiness directive (AD) for Rockwell International (Aircraft Specification No. A-2-575 previously held by North American and recently purchased by Boeing) Models AT-6 (SNJ-2), AT-6A (SNJ-3), AT-6B, AT-6C (SNJ-4), AT-6D (SNJ-5), AT-6F (SNJ-6), BC-1A, SNJ-7, and T-6G airplanes; and Autair Ltd. (Aircraft Specification No. AR-11 previously held by Noorduyn Aviation Ltd.) Model Harvard (Army AT-16) airplanes. This AD contains the same information as emergency AD 2005-12-51 and publishes the action in the Federal Register. It requires immediate and repetitive inspections of the inboard and outboard, upper and lower wing attach angles (except for the nose angles) of both wings for fatigue cracks; and, if any crack is found, replacement of the cracked angle with a new angle. This AD is the result of a report of a Rockwell International Model SNJ-6 (AT-6F) airplane crash that occurred on May 9, 2005, resulting in two fatalities. We are issuing this AD to detect and correct any fatigue crack in the inboard and outboard, upper and lower wing attach angles (except for the nose angles) of either wing, which could result in failure of the wing. This failure could lead to loss of control of the aircraft.

DATES: This AD becomes effective on June 23, 2005, to all affected persons who did not receive emergency AD 2005-12-51, issued June 8, 2005. Emergency AD 2005-12-51 contained the requirements of this amendment and became effective immediately upon receipt.

We must receive any comments on this AD by August 15, 2005.

ADDRESSES: Use one of the following to submit comments on this AD:

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

• The type certificate holders have not issued any service information that addresses this safety issue.

To view the comments to this AD, go to http://dms.dot.gov. The docket number is FAA-2005-24163; Directorate Identifier 2005-CE-30-AD.

FOR FURTHER INFORMATION CONTACT: Fred Guerin, Aerospace Engineer, FAA, Los Angeles ACO, 3960 Paramount Blvd., Lakewood, CA 90712; telephone: (562) 627-5232; facsimile: (562) 627-5210; e-mail: fred.guerin@faa.gov.

SUPPLEMENTARY INFORMATION:

Discussion

What events caused previous FAA AD action? The FAA has received a report of a Rockwell International Model SNJ-6 (AT-6F) airplane crash that occurred on May 9, 2005, resulting in two fatalities. The investigation revealed a large fatigue crack in the failed lower inboard wing attach angle. The aircraft was used for hire in aerobatic training.

On June 8, 2005, we issued emergency AD 2005-12-51 to require immediate and repetitive inspections of the inboard and outboard, upper and lower wing attach angles (except for the nose angles) of both wings for fatigue cracks; and, if any crack is found, replacement of the cracked angle with a new angle.

Why is it important to publish this AD? The FAA found that immediate corrective action was required, that notice and opportunity for prior public comment were impracticable and contrary to the public interest, and that good cause existed to make the AD effective immediately by individual letters issued on June 8, 2005, to all known U.S. operators of Rockwell International (Aircraft Specification No. A-2-575 previously held by North American and recently purchased by Boeing) Models AT-6 (SNJ-2), AT-6A (SNJ-3), AT-6B, AT-6C (SNJ-4), AT-6D (SNJ-5), AT-6F (SNJ-6), BC-1A, SNJ-7, and T-6G airplanes; and Autair Ltd. (Aircraft Specification No. AR-11 previously held by Noorduyn Aviation Ltd.) Model Harvard (Army AT-16) airplanes. These conditions still exist, and the AD is published in the Federal Register as an amendment to section 39.13 of the Federal Aviation Regulations (14 CFR 39.13) to make it effective to all persons.

Will FAA take future rulemaking action on this subject? The National Transportation Safety Board (NTSB) is still investigating the accident. When all information from the investigation becomes available, FAA may take additional AD action to address continued operational safety of the affected airplanes. This could include, but is not limited to, inspections, modifications, and/or replacement of critical components.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-24163; Directorate Identifier 2005-CE-30-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-24163; Directorate Identifier 2005-CE-30-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding a new AD to read as follows:

2005-12-51 Rockwell International (Aircraft Specification No. A-2-575 previously held by North American and recently purchased by Boeing) and Autair Ltd. (Aircraft Specification No. AR-11 previously held by Noorduyn Aviation Ltd.): Amendment 39-14144; Docket No. FAA-2005-24163; Directorate Identifier 2005-CE-30-AD.

When Does This AD Become Effective?

(a) This AD becomes effective on June 23, 2005, to all affected persons who did not receive emergency AD 2005-12-51, issued June 8, 2005. Emergency AD 2005-12-51 contained the requirements of this amendment and became effective immediately upon receipt.

Are Any Other ADs Affected By This Action?

(b) None.

What Airplanes Are Affected by This AD?

(c) This AD affects Models AT-6 (SNJ-2), AT-6A (SNJ-3), AT-6B, AT-6C (SNJ-4), AT-6D (SNJ-5), AT-6F (SNJ-6), BC-1A, Harvard (Army AT-16), SNJ-7, and T-6G airplanes, all serial numbers, that are certificated in any category.

What Is the Unsafe Condition Presented in This AD?

(d) This AD is the result of a report of a Rockwell International Model SNJ-6 (AT-6F) airplane crash that occurred on May 9, 2005, resulting in two fatalities. We are issuing this AD to detect and correct cracking in the wing spars before the cracks grow to failure. Such a wing failure could result in the wing separating from the airplane with consequent loss of control of the airplane.

What Must I Do To Address This Problem?

(e) To address this problem, you must do the following:

Actions | Compliance | Procedures
(1) Perform a fluorescent penetrant inspection of all inboard and outboard, upper and lower wing attach angles (except for the nose angles) of both wings for cracks. Replace the angles as necessary | (i) Initially inspect before further flight after June 23, 2005 (the effective date of this AD), unless previously done within the last 10 hours time-in-service (TIS), except for those who received emergency AD 2005-12-51, issued June 8, 2005. Emergency AD 2005-12-51 contained the requirements of this amendment and became effective immediately upon receipt (ii) Repetitively inspect thereafter every 200 hours TIS (iii) Replace angles as necessary prior to further flight after the inspection where cracks are found | Follow the Appendix to this AD.
(2) For all airplanes: Report to FAA the results of the initial inspection required by paragraph (e)(1) of this AD even if no damage is found and even if the inspection was previously done. The Office of Management and Budget (OMB) approved the information collection requirements contained in this regulation under the provisions of the Paperwork Reduction Act of 1980 (44 U.S.C. 3501 and those following sections) and assigned OMB Control Number 2120-0056 | Within 7 days after the inspection required by paragraph (e)(1) of this AD or within 7 days after June 23, 2005 (the effective date of this AD), except that this action was already required upon receipt for those who received emergency AD 2005-12-51.Therefore, those who sent in a report through emergency AD 2005-12-51 do not have to resend that initial report | Send the form (Figure 1 of this AD) to FAA, Los Angeles ACO, 3960 Paramount Blvd., Lakewood, CA 90712; facsimile: (562) 627-5210. E-mail: fred.guerin@faa.gov.
(3) You may operate the airplane to return/position the airplane to a home base, hangar, maintenance facility, etc., for the purpose of doing the inspection required by this AD provided you follow the limitations in paragraph (f) of this AD | You may operate the airplane up to 10 hours TIS provided the flight(s) occur(s) no later than 30 days after June 8, 2005. This is a one-time provision | Not Applicable.
(4) Special flight permits are allowed for this AD. See paragraph (f) of this AD for restrictions | Use the procedures in 14 CFR part 39 and the restrictions in paragraph (f) of this AD | Not Applicable.

BILLING CODE 4910-13-P

BILLING CODE 4910-13-C

What Are the Flight Restrictions Specified in Paragraphs (e)(3) and (e)(4) of This AD?

(f) During the time allowed before compliance with the initial inspection required by paragraph (e)(1) of this AD, or for any approved special flight permit, you must adhere to the following limitations:

(1) Acrobatic maneuvers are prohibited.

(2) Flight into known or forecast moderate or severe turbulence is prohibited.

(3) Day visual flight rules (VFR) operation only.

(4) Single pilot operation only (Passengers prohibited).

May I Request an Alternative Method of Compliance?

(g) You may request a different method of compliance or a different compliance time for this AD by following the procedures in 14 CFR 39.19. Unless FAA authorizes otherwise, send your request to your principal inspector. The principal inspector may add comments and will send your request to the Manager, Los Angeles Aircraft Certification Office (ACO), FAA. For information on any already approved alternative methods of compliance or for further information about this AD, contact Fred Guerin, Aerospace Engineer, FAA, Los Angeles ACO, 3960 Paramount Blvd., Lakewood, CA 90712; telephone: (562) 627-5232; facsimile: (562) 627-5210; e-mail: fred.guerin@faa.gov.

Where Do I View the AD Docket?

(h) To view the AD docket, go to the Docket Management Facility; U.S. Department of Transportation, 400 Seventh Street, SW., Nassif Building, Room PL-401, Washington, DC 20590-001 or on the Internet at http://dms.dot.gov. The docket number is FAA-2005-24163.

Issued in Kansas City, Missouri, on June 14, 2005.
John R. Colomy,
Acting Manager, Small Airplane Directorate, Aircraft Certification Service.

Appendix to AD 2005-12-51

Wing Attachment Angle Inspection for: Models AT-6 (SNJ-2), AT-6A (SNJ-3), AT-6B, AT-6C (SNJ-4), AT-6D (SNJ-5), AT-6F (SNJ-6), BC-1A, Harvard (Army AT-16), SNJ-7, and T-6G Airplanes

Procedures:

(1) Remove all outboard wing attach angle covers.

(2) Support outboard wing on appropriate stands to relieve the weight on the wing attach bolts.

(3) On the upper wing attach angles, except for the forward and aft five bolts on the angle, remove all of the through bolts that attach the outboard wing (Do not remove bolts in the nose angle).

(4) Remove all paint down to the bare metal using solvent on outer surface of affected angles. Do not sand or use media blasting or use any method that would cover up or contaminate a crack. This means not using Scotchbrite or a similar abrasive, which can contaminate a crack for penetrant inspection.

(5) Use the penetrant manufacturer's cleaner, acetone, or 90-percent or more alcohol solution to do a final surface cleaning preparation step before the fluorescent penetrant inspection.

(6) Perform an inspection of the outboard and inboard wing attach angles using a high sensitivity fluorescent dye penetrant inspection procedure per the penetrant manufacturer's instructions. Pay particular attention to cracks that may be present in the edge of the spot faces closest to the radius of the angle. Also pay attention to any small cracks that may be emanating from the edge of the fasteners in any row of installed fasteners. Choose a commercially available fluorescent inspection method that requires the use of an ultraviolet (black light) in a darkened environment. Do not use dye penetrant, which is read under normal lighting conditions.

(7) Check the wing attachment angle for condition and for security of rivets and bolts.

(8) If no cracks or major defects are found, replace nuts and bolts following directions in paragraphs (11) and (12) of this appendix of this AD, clean angle, and apply a corrosion protectant coating paint (Alodine alone is not acceptable).

(9) On the upper wing, remove the forward and aft five bolts that were previously left in place, and inspect the remaining uninspected portion of the angles following the above procedure.

(10) On the lower wings, repeat the inspection on the bottom two attach angles in the same sequence as on the top angles.

(11) When replacing bolts in angles, use only nuts, bolts, and torque values as specified in “Erection and Maintenance No. AN01-60FFA-2” or “Erection and Maintenance No. AN01-60F-2” as applicable to the aircraft model. Bolts may be reused if upon inspection they are found to be in airworthy condition. Nuts may be reused as long as the nylon-locking feature is functional, and they cannot be turned onto the bolt with fingers. Torque values for ¼-inch bolts are 60-65 inch/lb, and for 5/16-inch bolts are 100-105 inch/lb. These torque values supersede those in the manuals.

(12) To assure that the nuts do not contact the shoulder of the wing attach bolts and cause an under torque condition, assure that no more than two threads are protruding from nut after torquing. If more than two threads are protruding, replace with a bolt of the correct length.

(13) If any cracks are found, replace the angle with a new part. Send all cracked angles to Fred Guerin, Aerospace Engineer, FAA, Los Angeles ACO, 3960 Paramount Blvd., Lakewood, CA 90712.

[FR Doc. 05-12151 Filed 6-20-05; 8:45 am]

BILLING CODE 4910-13-P